FEDERAL FINANCIAL INSTITUTIONS EXAMINATION COUNCIL

[Docket No. AS13-02]

Appraisal Subcommittee; Notice of Meeting

AGENCY: Appraisal Subcommittee of the Federal Financial Institutions Examination Council, FFIEC.

ACTION: Notice of meeting.

Description: In accordance with Section 1104(b) of Title XI of the Financial Institutions Reform, Recovery, and Enforcement Act of 1989, as amended, notice is hereby given that the Appraisal Subcommittee (ASC) will meet in closed session:

Location: OCC—400 7th Street SW., Washington, DC 20024.

Date: January 23, 2013.

Time: Immediately following the ASC open session.

Status: Closed.

Matters To Be Considered

December 12, 2012 minutes-Closed Session.

Preliminary discussion of State Compliance Reviews.

Dated:January 10, 2013.
James R. Park,
Executive Director.

[FR Doc. 2013-00697 Filed 1-14-13; 8:45 am]

BILLING CODE P